DEPARTMENT OF TRANSPORTATION

National Highway Traffic Safety Administration

[Docket No. NHTSA 2002-11882; Notice 2]

Michelin North America, Inc., Grant of Application for Decision of Inconsequential Noncompliance

Michelin North America, Inc., (Michelin) has determined that approximately 385 275/80 R-22.5 Michelin PXZE TL LRG tires do not meet the labeling requirements mandated by Federal Motor Vehicle Safety Standard (FMVSS) No. 119, “New pneumatic tires for vehicles other than passenger cars.” Pursuant to 49 U.S.C. 30118(d) and 30120(h), Michelin has petitioned for a determination that this noncompliance is inconsequential to motor vehicle safety and has filed an appropriate report pursuant to 49 CFR part 573, “Defect and Noncompliance Reports.”

Notice of receipt of the application was published, with a 30-day comment period, on April 2, 2002, in the Federal Register (67 FR 15672). NHTSA received no comments.

During the period of the 42nd week through the 44th week of 2001, the Kentville, Nova Scotia, Canada plant of Michelin North America (Canada) Inc., produced tires where, on one side of the tire, the tire inflation pressure information was omitted. This condition does not meet the labeling requirements of FMVSS No. 119, S6.5(d) as the incorrectly marked tires read:

Max Load Single 2800 kg (6175 lbs) 2800 kg (6175 lbs)

Max Load Dual 2575 kg (5675 lbs) 2575 kg (5675 lbs)

Instead of:

Max Load Single 2800kg (6175 lbs) at 760 kPa (110 psi) cold

Max Load Dual 2575 kg (5675 lbs) at 760 kPa (110 psi) cold

Of the 385 noncompliant tires, approximately 283 tires may have been delivered to end-users. The remaining tires have been isolated in Michelin's warehouses and will be brought into full compliance with the requirement of FMVSS No. 119 or scrapped.

Michelin does not believe that this marking error will impact motor vehicle safety because the tires meet all other Federal motor vehicle safety performance standards. The routine source of tire inflation pressure is not the tire sidewall marking. Typically the proper inflation pressures are obtained from the vehicle placard, the vehicle owner's manual, or tire industry standards publications. Thus, the proper inflation is readily available to the user.

The agency believes the true measure of inconsequentiality with respect to the noncompliance with FMVSS No. 119, paragraph S6.5, is whether the consumer can reference the maximum load rating and corresponding inflation pressure information for a particular tire. In the case of this noncompliance, the information is marked correctly on one side of the tire while the opposite side has the maximum load stated twice with no corresponding inflation pressure. The consumer can determine the recommended inflation by referring to the fully marked side of the tire if it is facing outwards or from the other sources cited in the preceding paragraph if the fully marked side it is not facing outwards.

In consideration of the foregoing, NHTSA has decided that the applicant has met its burden of persuasion that the noncompliance described is inconsequential to motor vehicle safety. Accordingly, Michelin's application is hereby granted, and the applicant is exempted from the obligation of providing notification of, and a remedy for, the noncompliance.

(49 U.S.C. 301118, 301120; delegations of authority at 49 CFR 1.50 and 501.8)
Issued on: July 30, 2002.
Stephen R. Kratzke,
Associate Administrator for Safety Performance Standards.

[FR Doc. 02-19551 Filed 8-1-02; 8:45 am]

BILLING CODE 4910-59-P